RAILROAD RETIREMENT BOARD

Public Availability of Railroad Retirement Board FY 2011 Service Contract Inventory

AGENCY: Railroad Retirement Board (RRB).

ACTION: Notice of Public Availability of FY 2011 Service Contract Inventories.

SUMMARY: In accordance with Section 743 of Division C of the Consolidated Appropriations Act of 2010 (Pub. L. 111-117), Railroad Retirement Board is publishing this notice to advise the public of the availability of the FY 2011 Service Contract inventory. This inventory provides information on service contract actions, over $25,000, which the RRB awarded during FY 2011. The information is organized by function to show how contracted resources were used by the agency to support its mission. The inventory has been developed in accordance with guidance issued on November 5, 2010, as updated December 19, 2011 by the Office of Management and Budget's Office of Federal Procurement Policy (OFPP). OFPP's guidance is available at: http://www.whitehouse.gov/sites/default/files/omb/procurement/memo/service-contract-inventory-guidance.pdf. The Railroad Retirement Board has posted its inventory and a summary of the inventory on the Railroad Retirement Board homepage at the following link: http://www.rrb.gov/mep/agency_mgt.asp.

FOR FURTHER INFORMATION CONTACT: Questions regarding the service contract inventory should be directed to Paul Ahern in the Acquisition Management Division, Office of Administration at (312) 751-7130 or paul.ahern@rrb.gov.

Dated: January 23, 2012.
By Authority of the Board.
Martha P. Rico,
Secretary to the Board.

[FR Doc. 2012-1778 Filed 1-26-12; 8:45 am]

BILLING CODE 7905-01-P